DEPARTMENT OF HOMELAND SECURITY

[Docket No. DHS-2016-0028]

Homeland Security Science and Technology Advisory Committee

AGENCY: Science and Technology Directorate, DHS.

ACTION: Committee management; notice of federal advisory committee meeting.

SUMMARY: The Homeland Security Science and Technology Advisory Committee (HSSTAC) will meet on June 21-22, 2016 in Washington, DC. The meeting will be an open session with both in-person and webinar participation.

DATES: The HSSTAC will meet in-person Tuesday, June 21, 2016, from 9:00 a.m.-4:25 p.m. and Wednesday, June 22, 2016, from 9:00 a.m.-3:00 p.m.

Due to security requirements, screening pre-registration is required for this event. Please see the “REGISTRATION” section below.

The meeting may close early if the committee has completed its business.

ADDRESSES: Schafer Government Services, Homeland Security, 1125 15th St. NW., Suite 500, Washington, DC 20005.

FOR FURTHER INFORMATION CONTACT: Bishop Garrison, HSSTAC Executive Director, S&T IAO STOP 0205, Department of Homeland Security, 245 Murray Lane, Washington, DC 20528-0205, 202-254-5617(Office), 202-254-6176 (Fax) bishop.garrison@hq.dhs.gov (Email).

SUPPLEMENTARY INFORMATION:

I. Background

Notice of this meeting is given under the Federal Advisory Committee Act (FACA), 5 U.S.C. appendix (Pub. L. 92-463). The committee addresses areas of interest and importance to the Under Secretary for Science and Technology (S&T), such as new developments in systems engineering, cyber-security, knowledge management and how best to leverage related technologies funded by other Federal agencies and by the private sector. It also advises the Under Secretary on policies, management processes, and organizational constructs as needed.

II. Registration

To pre-register for the virtual meeting (webinar) please send an email to: hsstac@hq.dhs.gov. The email should include the name(s), title, organization/affiliation, email address, and telephone number of those interested in attending. For information on services for individuals with disabilities or to request special assistance at the meeting, please contact Bishop Garrison as soon as possible.

If you plan to attend the meeting in-person you must RSVP by June 17, 2016. To register, email hsstac@hq.dhs.gov with the following subject line: RSVP to HSSTAC Meeting. The email should include the name(s), title, organization/affiliation, email address, and telephone number of those interested in attending.

III. Public Comment

At the end of each open session, there will be a period for oral statements. Please note that the oral statement period may end before the time indicated, following the last call for oral statements. To register as a speaker, contact the person listed in the FOR FURTHER INFORMATION CONTACT section.

To facilitate public participation, we invite public comment on the issues to be considered by the committee as listed in the “Agenda” below. Written comments must be received by June 6, 2016. Please include the docket number (DHS-2016-0028) and submit via one of the following methods:

• Federal eRulemaking Portal: http://www.regulations.gov. Follow the instructions for submitting comments.

• Email: hsstac@hq.dhs.gov. Include the docket number in the subject line of the message.

• Fax: 202-254-6176.

• Mail: Bishop Garrison, HSSTAC Executive Director, S&T IAO STOP 0205, Department of Homeland Security, 245 Murray Lane, Washington, DC 20528-0205.

Instructions: All submissions received must include the words “Department of Homeland Security” and the docket number. Comments received will be posted without alteration at http://www.regulations.gov.

Docket: For access to the docket to read the background documents or comments received by the HSSTAC, go to http://www.regulations.gov and enter the docket number into the search function: DHS-2016-0028.

Agenda: Day 1: The morning session will cover the HSSTAC deliverables, specifically a white paper discussion on Interdisciplinary Centers of Excellence and an outbrief on the Social Media Working Group Subcommittee, which focuses on social media technologies for first responders. Comments and questions from the public will follow the first session. The second morning session will be a discussion led by Dr. Reginald Brothers on “How to reinvigorate traditional partners while building the innovation ecosystem.” Committee members will be asked to provide feedback on the right balance for an innovation ecosystem. The afternoon session will consist of discussions on innovation and private sector outreach. Topics will include: The innovation ecosystem, the future of innovation at the National Bio and Agro-Defense Facility (NBAF), innovation and public private sector outreach, defining instruments of innovation and the innovation ecosystem, best practices for public private partnerships on engagement with an innovation hub and return on investment (ROI). There will also be a briefing on the status of the Silicon Valley Office, followed by a discussion on where DHS S&T should focus in building the innovation ecosystem. Members will be asked to provide input on how DHS S&T can create a national model for innovation rather than regional models. Dr. Brothers will adjourn the meeting with a few closing remarks. Day 2: The morning session will begin with a briefing on the Quadrennial Homeland Security Review (QHSR). The afternoon session will include a continuation of the discussion where the members will be asked to provide feedback on the QHSR process. There will be a period for public comment followed by final comments on QHSR.

Dated: May, 24, 2016.
Bishop Garrison,
Executive Director, Homeland Security Science and Technology Advisory Committee.

[FR Doc. 2016-12679 Filed 5-27-16; 8:45 am]

BILLING CODE 9110-9F-P